SMALL BUSINESS ADMINISTRATION

Region III Advisory Council; Public Meeting

The National Home Health Care Roundtable, Regulatory Fairness Board will hold a public hearing on September 14, 2000, at 10:00 am until 3:00 pm located at the Hyatt Regency Baltimore, at 300 Light Street, Baltimore, Maryland to help improve communication and cooperation between small home health care businesses and the U.S. Health Care Financing Administration on regulatory enforcement and compliance matters. The transcripts of these proceedings will be posted on the Internet. These transcripts are subject to limited review by the National Ombudsman the proceeding may also be video taped. The public is invited to attend the meeting but space is limited members of the public may also be able to listen to the meeting via a toll-free conference call telephone system. To reserve space at the meeting or participate by telephone, please contact the office of the National Ombudsman by the close of business on September 8, 2000. The office number is (312) 353-1744, email may be sent to RegFair@sba.gov and voice-mail messages may be left at 1-888-REG-FAIR.

Please include the names of any persons wishing to attend and their contact information in any e-mail or message.

Bettie Baca,
Counselor to the Administrator/Public Liaison.

[FR Doc. 00-22410 Filed 8-31-00; 8:45 am]

BILLING CODE 8025-01-P